DEPARTMENT OF HEALTH AND HUMAN SERVICES

National Institutes of Health

Notice of Establishment

Pursuant to the Federal Advisory Committee Act, as amended (5 U.S.C. Appendix 2), the Director, National Institutes of Health (NIH), announces the establishment of the Interdisciplinary Molecular Sciences and Training Integrated Review Group, (IRG).

The IRG shall advise the Director, National Institutes of Health (NIH), and the Director, Center for Scientific Review (CSR), on the scientific and technical merit of applications for grants-in-aid for research, research training or research-related grants and cooperative agreements, or contract proposals relating to scientific areas relevant to biological chemistry, biophysics and cell biology, drug discovery and development, devices and detection systems, biomaterials, delivery systems and nanotechnology, computational biology, imaging and data mining, genes, genomes and genetics, environmental monitoring, and basic translational oncology.

Duration of this committee will be continuing with no specified end date.

Dated: October 9, 2009.
Francis S. Collins,
Director, National Institutes of Health.

[FR Doc. E9-25374 Filed 10-21-09; 8:45 am]

BILLING CODE 4140-01-M